DEPARTMENT OF DEFENSE

National Reconnaissance Office; Privacy Act of 1974; System of Records

AGENCY: National Reconnaissance Office, DoD.

ACTION: Notice to Add a System of Records.

SUMMARY: The National Reconnaissance Office is adding a system of records notice to its inventory of record systems subject to the Privacy Act of 1974, (5 U.S.C. 552a), as amended.

DATES: This proposed action will be effective without further notice on June 10, 2002, unless comments are received which result in a contrary determination.

ADDRESSES: National Reconnaissance Office, 14675 Lee Road, Chantilly, VA 20151-1715.

FOR FURTHER INFORMATION CONTACT: Ms. Barbara Freimann at (703) 808-5029.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on April 30, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: May 3, 2002.
Patricia L. Toppings,
Alternate OSD Federal Register Liaison Officer, Department of Defense.

QNRO 16

System name:

Reservists Recall Files.

System location:

Deputy Director for Military Support, Reserve Management Office, National Reconnaissance Office, 14675 Lee Road, Chantilly, VA 20151-1715.

Categories of individuals covered by the system:

Government and contractor personnel currently assigned to NRO who are military reservists.

Categories of records in the system:

Home information includes individual's name, address, home phone number, marital status, Social Security Number, email address, emergency contact information, whether spouse is in military service, and whether the reservist is lost from or assigned to the NRO.

Work information includes individual's title, company name, department, office, address, phone number and e-mail address, contractor status, and potential conflict of interest notes.

Reserve Assignment information includes site, manager's name, office and email address, geographic location, phone and fax numbers, and reservist's phone number.

NRO Lose information includes losing directorate and office, gaining office, location, phone number, job title; start date, duration, return date, whether mobilized or not, mobilization potential and whether voluntary or involuntary mobilization.

Qualifications and Status information includes individual's military branch status, rank, and pay grade whether officer or enlisted, promotable/selected, National Guard state, specialist code/military occupational specialty (AFSC/MOS), whether an Individual Mobilization Augmentee, duty obligation, category, specialty, and notes.

Authority for maintenance of the system:

5 U.S.C. 301, Departmental Regulations; National Security Act of 1947 as amended; 50 U.S.C. 401 et seq.; E.O. 9397 (SSN); E.O. 12333.

Purpose(s):

Files are used to track potential and actual mobilization of reservists working in the NRO.

Routine uses of records maintained in the system, including categories of users and the purposes of such uses:

In addition to those disclosure generally permitted under 5 U.S.C. 552a(b) of the Privacy Act, these records or information contained therein may specifically be disclosed outside the DoD as a routine use pursuant to 5 U.S.C. 552a(b)(3) as follows:

To other Intelligence Community agencies for the purpose of identifying individuals who are on a job rotation to the NRO who are potentially impacted if mobilization occurs.

The DoD ‘Blanket Routines Uses’ published at the beginning of the NRO compilation of systems of records notices apply to this system.

Policies and practices for storing, retrieving, accessing, retaining and disposing of records in the system:

Storage:

Paper files and automated information system, maintained in computers and computer output products.

Retrievability:

Retrieved alphabetically by individual's name.

Safeguards:

Records are stored in secure gated facility, a guard, badge, and password access protected. Access to and use of these records are limited to NRO staff whose job requirements require use of the records.

Retention and disposal:

Disposition pending (until NARA approves a disposition and retention schedule, treat as permanent).

System manager(s) and address:

Deputy Director for Military Support, Reserve Management Office, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name, address, and other information identifiable from the record.

In addition, the requester must provide a notarized statement or an unsworn declaration made in accordance with 28 U.S.C. 1746, in the following format:

If executed without the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

Record access procedures:

Individuals seeking to access information about themselves contained in this system should address written inquiries to the National Reconnaissance Office, Information Access and Release Center, 14675 Lee Road, Chantilly, VA 20151-1715.

Request should include the individual's full name, address, and other information identifiable from the record.

In addition, the requester must provide a notarized statement or an unsworn declaration made in accordance with 28 U.S.C. 1746, in the following format:

If executed without the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

Contesting record procedures:

The NRO rules for accessing records, for contesting contents and appealing initial agency determinations are published in NRO Directive 110-3 and NRO Instruction 110-5; 32 CFR part 326; or may be obtained from the NRO Privacy Act Coordinator, National Reconnaissance Office, 14675 Lee Road, Chantilly, VA 20151-1715.

Record source categories:

Information entered into the system is supplied from the individuals themselves, Military Departments, and other Federal agencies.

Exemptions claimed for the system:

None.

[FR Doc. 02-11534 Filed 5-8-02; 8:45 am]

BILLING CODE 5001-08-P